FEDERAL COMMUNICATIONS COMMISSION

Public Information Collections Approved by Office of Management and Budget

December 6, 2000.

The Federal Communications Commission (FCC) has received Office of Management and Budget (OMB) approval for the following public information collections pursuant to the Paperwork Reduction Act of 1995, Pub. L. 104-13. An agency may not conduct or sponsor and a person is not required to respond to a collection of information unless it displays a currently valid control number. For further information contact Shoko B. Hair, Federal Communications Commission, (202) 418-1379.

Federal Communications Commission

OMB Control No.: 3060-0943.

Expiration Date: 12/31/2003.

Title: Section 54.809, Carrier Certification.

Form No.: N/A.

Respondents: Business or other for-profit.

Estimated Annual Burden: 27 respondents; 1.5 hours per response (avg.).; 41 total annual burden hours.

Estimated Annual Reporting and Recordkeeping Cost Burden: $0.

Frequency of Response: Annually; Third Party Disclosure.

Description: 47 CFR 54.809 requires each price cap or competitive local exchange carrier (LEC) that wishes to receive universal service support to file an annual certification with the Universal Service Administrative Company (USAC) and the Commission. The certification must state that the carrier will use its interstate access universal service support only for the provision, maintenance, and upgrading of facilities and services for which the support is intended. The Commission and USAC will use the certifications to ensure that carriers comply with section 254(e) of the Telecommunications Act by using the interstate access universal service support only for the provision, maintenance, and upgrading of facilities and service for which the support is intended. Obligation to respond: Required to obtain or retain benefits.

OMB Control No.: 3060-0816.

Expiration Date: 11/30/2003.

Title: Local Competition and Broadband Reporting, CC Docket No. 99-301.

Form No.: FCC Form 477.

Respondents: Business or other for-profit.

Estimated Annual Burden: 255 respondents; 58.6 hours per response (avg.).; 29,924 total annual burden hours (based on two responses per respondents).

Estimated Annual Reporting and Recordkeeping Cost Burden: $0.

Frequency of Response: Semi-annually.

Description: FCC Form 477 seeks to gather information on the development of local competition and deployment of broadband service also known as advanced telecommunications services. The data is necessary to evaluate the status of developing competition in local exchange telecommunications markets and to evaluate the status of broadband deployment. The information will be used by Commission staff to advise the Commission about the efficacy of Commission rules and policies adopted to implement the Telecommunications Act of 1996. Copies of the FCC Form 477, Local Competition and Broadband Reporting Form, can be obtained from the Commission's website at www.fcc.gov. Obligation to respond: Mandatory.

OMB Control No.: 3060-0790.

Expiration Date: 11/30/2003.

Title: Section 68.110(c)—Availability of Inside Wiring Information.

Form No.: N/A.

Respondents: Business or other for-profit.

Estimated Annual Burden: 200 respondents; 1 hour per response (avg.); 1200 total annual burden hours (based on six requests per year).

Estimated Annual Reporting and Recordkeeping Cost Burden: $0.

Frequency of Response: On occasion.

Description: 47 CFR 68.110(c) requires telephone companies to provide building owners with all available information regarding carrier-installed wiring on the customer's side of the demarcation point, including copies of existing schematic diagrams and service records. The information must be provided to the telephone company upon request of the building owner or agent thereof. The information is needed so that building owners may be able to contract with an installer of their choice for maintenance and installation service, or elect to contract with the telephone company to modify existing wiring or assist with the installation of additional inside wiring. Obligation to respond: Required to obtain or retain benefits.

OMB Control No.: 3060-0933.

Expiration Date: 11/30/2003.

Title: Community Broadband Deployment Database Reporting Form.

Form No.: FCC Form 460.

Respondents: Business or other for-profit.

Estimated Annual Burden: 150 respondents; .25 hours per response (avg.); 37 total annual burden hours.

Estimated Annual Reporting and Recordkeeping Cost Burden: $0.

Frequency of Response: On occasion.

Description: Pursuant to section 410(b) of the Communications Act of 1934, as amended, on October 8, 1999, the FCC convened a Federal-State Joint Conference on Advanced Telecommunications Services to provide a forum for cooperative dialogue and information exchange between and among state and federal jurisdictions regarding the deployment of advanced telecommunications services. As part of this ongoing effort, a searchable on-line database of community broadband demand aggregation and deployment effort has been established. The information will enable the Commission to better assess the availability of broadband services so that it can better satisfy its duty to encourage the deployment of advanced telecommunications capability as Congress directed the Commission to do in Section 706 of the Telecommunications Act of 1996. Obligation to respond: Voluntary.

OMB Control No.: 3060-0964.

Expiration Date: 05/31/2001.

Title: Certification for Waiver of September 30, 2000 Deadline.

Form No.: N/A.

Respondents: Not-for-profit institution; Business or other for-profit.

Estimated Annual Burden: 250 respondents; .50 hours per response (avg.); 125 total annual burden hours.

Estimated Annual Reporting and Recordkeeping Cost Burden: $0.

Frequency of Response: On occasion.

Description: The Commission extended the September 30, 2000 deadline for certain applicants under the schools and libraries universal service support mechanism for implementation of non-recurring services whose year two funding commitment letters were issued by the Universal Service Administrative Company on or after April 4, 2000, who received service provider change authorizations or service substitution authorizations from USAC on or after April 4, 2000, whose service provider's control, or who have had their funding disbursements delayed while USAC investigates their application for program compliance until September 30, 2001. To the extent an applicant has not met the September 30, 2000 deadline because its service provider has been unable, due to circumstances beyond the service provider's control, to complete delivery of non-recurring services prior to the deadline, the applicant shall also receive an extension of the deadline until September 30, 2001. The applicant must have submitted documentation to USAC prior to the expiration of the September 30, 2000 deadline requesting relief on the grounds that its service provider was unable to deliver the services due to events beyond the service provider's control, such as labor walk-outs or natural disasters. In addition, an applicant may also qualify for an extension of the September 30, 2000 deadline to September 30, 2001, if the applicant has certified to USAC that its service provider was unwilling to deliver or install non-recurring services before the expiration of the September 30, 2000 deadline, because USAC had withheld payment for those services on a properly-submitted invoice for more than 60 days after the submission of the invoice. If an applicant believes it qualifies for relief under this second scenario, but has not yet certified to USAC that its service provider has been unwilling to implement non-recurring services due to the withholding of payments on its invoices, the applicant shall have sixty (60) days from the release date of CC Docket No. 96-45 (DA No. 00-2444, released 11/1/2000) to make such certification to USAC.

The Commission will use the information collected to determine whether schools and libraries applicants qualify for extensions of the September 30, 2000 deadline for implementation of non-recurring services. Obligation to respond: Required to obtain or retain benefits.

OMB Control No.: 3060-0791.

Expiration Date: 11/30/2003.

Title: Accounting for Judgments and Other Costs Associated with Litigation, CC Docket No. 93-240.

Form No.: N/A.

Respondents: Business or other for-profit.

Estimated Annual Burden: 1 respondents; 36 hours per response (avg.); 36 total annual burden hours.

Estimated Annual Reporting and Recordkeeping Cost Burden: $0.

Frequency of Response: On occasion.

Description: In CC Docket No. 93-240, the Commission considered the issue of the accounting rules and ratemaking policies that should apply to litigation costs incurred by carriers subject to 47 CFR part 32. The Commission concluded that there should be special rules to govern the accounting treatment of federal antitrust judgements and settlements, in excess of the avoided costs of litigation, but not for litigation expenses. The Commission further concluded that these special rules should not apply to costs arising in other kinds of litigation. A carrier must make a showing to receive recognition of its avoided costs of litigation. The information will be used to determine the justness and reasonableness of the rates. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-31888 Filed 12-13-00; 8:45 am]

BILLING CODE 6712-01-U